DEPARTMENT OF THE INTERIOR

Fish and Wildlife Service

[FWS-R8-ES-2015-N050]; [FXES11130800000-154-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before April 17, 2015.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-59536B

Applicant: Eric Drake, Sacramento, California

The applicant requests a permit to take (harass by survey, capture, handle, and release) the California tiger salamander (Santa Barbara County Distinct Population Segment (DPS) and Sonoma County DPS) (Ambystoma californiense) in conjunction with survey activities throughout the range of the species in California for the purpose of enhancing the species' survival.

Permit No. TE-59573B

Applicant: Andrew Krause, Lebec, California

The applicant requests a permit to take (harass by survey, capture, handle, and release) the giant kangaroo rat (Dipodomys ingens) and Tipton kangaroo rat (Dipodomys nitratoides nitratoides) in conjunction with survey activities throughout the range of the species in California for the purpose of enhancing the species' survival.

Permit No. TE-59587B

Applicant: California Department of Water Resources, Sacramento, California

The applicant requests a permit to remove/reduce to possession the Oenothera deltoides subsp. howellii (Antioch Dunes evening-primrose) and Erysimum capitatum subsp. angustatum (Contra Costa wallflower) in conjunction with restoration activities throughout the range of the species in California for the purpose of enhancing the species' survival.

Permit No. TE-59592B

Applicant: Angela Johnson, Wauconda, California

The applicant requests a permit to take (locate and monitor nests) the least Bell's vireo (Vireo bellii pusillus), and take (harass by survey, locate, and monitor nests) the southwestern willow flycatcher (Empidonax traillii extimus) in conjunction with survey and population monitoring throughout the range of the species in California, Nevada, Oregon, and Arizona, for the purpose of enhancing the species' survival.

Permit No. TE-833230

Applicant: Robert Aramayo, Albany, California

The applicant requests a permit to take (capture, collect, and collect vouchers) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-30659A

Applicant: Creekside Center for Earth Observation, Menlo Park, California

The applicant requests a permit to take (harass by survey, collect, and translocate) the mission blue butterfly (Icaricia icarioides missionensis) in conjunction with surveys and reintroduction programs throughout the range of the species in California for the purpose of enhancing the species survival.

Permit No. TE-817397

Applicant: John Storrer, Santa Barbara, California

The applicant requests a permit amendment to take (harass by survey, capture, handle, release, collect tissue for genetic analysis, and collect voucher specimens) the California tiger salamander (Santa Barbara County DPS and Sonoma County DPS) (Ambystoma californiense) in conjunction with survey activities throughout the range of the species in California for the purpose of enhancing the species' survival.

Permit No. TE-237086

Applicant: Stillwater Sciences, Berkeley, California

The applicant requests a permit amendment to take (survey, capture, handle, and release) the Sierra Nevada yellow-legged frog (Rana sierrae) in conjunction with survey activities throughout the range of the species in California for the purpose of enhancing the species' survival.

Permit No. TE-148556

Applicant: Deborah Van Dooremolen, Las Vegas, Nevada

The applicant requests a permit renewal and amendment to take (harass by survey) the southwestern willow flycatcher (Empidonax traillii extimus) and Yuma Ridgway's rail (Rallas obsoletus yumanensis (R. longirostris y.) (Yuma clapper rail) in conjunction with survey activities within Clark County, Nevada, for the purpose of enhancing the species' survival.

Permit No. TE-59890B

Applicant: Olberding Environmental, Incorporated, Folsom, California

The applicant requests a permit to take (harass by survey, capture, handle, release, and collect adult vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-012973

Applicant: ECORP Consulting, Incorporated, Rocklin, California

The applicant requests a permit amendment to take (harass by survey, capture, handle, release, collect adult vouchers, and collect cysts) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-148554

Applicant: Amber Heredia, Ladera Ranch, California

The applicant requests a permit renewal and amendment to take (harass by survey) the southwestern willow flycatcher (Empidonax traillii extimus) in conjunction with survey activities throughout the range of the species in California, Nevada, Arizona, New Mexico, and Utah, for the purpose of enhancing the species' survival.

Permit No. TE-29658A

Applicant: Cindy Dunn, San Diego, California

The applicant requests a permit renewal to take (survey by pursuit, live-capture, handle, and release) the Quino checkerspot butterfly (Euphydryas editha quino) in conjunction with survey activities throughout the range of the species in California for the purpose of enhancing the species' survival.

Permit No. TE-233291

Applicant: Margaret Mulligan, San Diego, California

The applicant requests a permit renewal to take (survey by pursuit, live-capture, handle, and release) the Quino checkerspot butterfly (Euphydryas editha quino) in conjunction with survey activities throughout the range of the species in California for the purpose of enhancing the species' survival.

Permit No. TE-179013

Applicant: Scott Werner, Ojai, California

The applicant requests a permit renewal to take (harass by survey) the southwestern willow flycatcher (Empidonax traillii extimus) and take (locate and monitor nests and remove brown-headed cowbird (Molothrus ater) eggs and chicks from parasitized nests) the least Bell's vireo (Vireo bellii pusillus) in conjunction with survey and nest monitoring activities throughout the range of the species in California for the purpose of enhancing the species' survival.

Permit No. TE-832717

Applicant: Rodrick Dossey, Escondido, California

The applicant requests a permit renewal to remove/reduce to possession the Monardella viminea (M. linoides subsp. v.) (willowy monardella), Arctostaphylos glandulosa subsp. crassifolia (Del Mar manzanita), Chorizanthe orcuttiana (Orcutt's spineflower), Fremontodendron mexicanum (Mexican flannelbush), Ambrosia pumila (San Diego ambrosia), Eryngium aristulatum var. parishii (San Diego button-celery), Pogogyne abramsii (San Diego mesa mint), Orcuttia californica (California Orcutt grass), and Chloropyron maritimum subsp. maritimum (Cordylanthus maritimus subsp. maritimus) (salt marsh bird's beak) in conjunction with surveys in Imperial, Orange, Riverside, and San Diego Counties, California, for the purpose of enhancing the species' survival.

Permit No. TE-051236

Applicant: Erika Edison, La Mesa, California

The applicant requests a permit renewal to take (harass by survey) the southwestern willow flycatcher (Empidonax traillii extimus) and take (survey by pursuit, live-capture, handle, and release) the Quino checkerspot butterfly (Euphydryas editha quino) in conjunction with survey activities throughout the range of the species in California for the purpose of enhancing the species' survival.

Permit No. TE-051242

Applicant: Monica Alfaro, San Diego, California

The applicant requests a permit renewal to take (harass by survey) the southwestern willow flycatcher (Empidonax traillii extimus) and take (survey by pursuit, live-capture, handle, and release) the Quino checkerspot butterfly (Euphydryas editha quino) in conjunction with survey activities throughout the range of the species in California for the purpose of enhancing the species' survival.

Permit No. TE-161483

Applicant: Linette Lina, Orange, California

The applicant requests a permit renewal to take (harass by survey) the southwestern willow flycatcher (Empidonax traillii extimus) and take (locate and monitor nests and remove brown-headed cowbird (Molothrus ater) eggs and chicks from parasitized nests) the least Bell's vireo (Vireo bellii pusillus) in conjunction with survey and nest monitoring activities throughout the range of the species in California for the purpose of enhancing the species' survival.

Permit No. TE-044846

Applicant: U.S. Geological Survey and National Park Service, Ventura, California

The applicant requests a permit renewal to remove/reduce to possession from lands under Federal jurisdiction the Boechera hoffmannii (Arabis h.) (Hoffmann's rock cress), Arctostaphylos confertiflora (Santa Rosa Island manzanita), Berberis pinnata subsp. insularis (island barberry), Castilleja mollis (soft-leaved paintbrush), Dudleya traskiae (Santa Barbara Island liveforever), Galium buxifolium (island bedstraw), Gilia tenuiflora subsp. hoffmannii (Hoffmann's slender-flowered gilia), Malacothamnus fasciculatus var. nesioticus (Santa Cruz Island bush-mallow), Malacothrix indecora (Santa Cruz Island malacothrix), Malacothrix squalida (Island malacothrix), Phacelia insularis subsp. insularis (island phacelia), and Thysanocarpus conchuliferus (Santa Cruz Island fringepod) in conjunction with genetic research and population studies in Channel Islands National Park, California, for the purpose of enhancing the species' survival.

Permit No. TE-082908

Applicant: Melanie Rocks, San Diego, California

The applicant requests a permit renewal to take (harass by survey, capture, handle, release, and collect adult vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) and take (survey by pursuit, live-capture, handle, and release) the Quino checkerspot butterfly (Euphydryas editha quino) in conjunction with survey activities throughout the range of the species in California for the purpose of enhancing the species' survival.

Permit No. TE-60151B

Applicant: Lisa Franklin, Crestline, California

The applicant requests a new permit to take (locate and monitor nests) the least Bell's vireo (Vireo bellii pusillus) and take (capture, handle, and release) the San Bernardino kangaroo rat (Dipodomys merriami parvus) in conjunction with survey activities throughout the range of the species in California for the purpose of enhancing the species' survival.

Permit No. TE-082908

Applicant: Mary Belk, New Braunfels, Texas

The applicant requests a new permit to take (collect adult vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with research activities throughout the range of the species in California for the purpose of enhancing the species' survival.

Permit No. TE-60218B

Applicant: James Hickman, San Bernardino, California

The applicant requests a new permit to take (capture, handle, and release) the San Bernardino kangaroo rat (Dipodomys merriami parvus) in conjunction with survey activities throughout the range of the species in California for the purpose of enhancing the species' survival.

Permit No. TE-768251

Applicant: Biosearch Associates, Santa Cruz, California

The applicant requests a permit renewal to take (capture, handle, and release) the Fresno kangaroo rat (Dipodomys nitratoides exilis) and Tipton kangaroo rat (Dipodomys nitratoides nitratoides); take (capture, handle, mark, and release) the Santa Cruz long-toed salamander (Ambystoma macrodactylum croceum); take (harass by survey, capture, handle, and release) the California red-legged frog (Rana aurora draytonii); take (harass by survey, capture, handle, mark, and release) the San Francisco garter snake (Thamnophis sirtalis tetrataenia); and take (capture and release) the Conservancy fairy shrimp (Branchinecta conservatio), longhorn fairy shrimp (Branchinecta longiantenna), and vernal pool tadpole shrimp (Lepidurus packardi), in conjunction with survey and research activities throughout the range of the species in California for the purpose of enhancing the species' survival.

Permit No. TE-233367

Applicant: Laura Gorman, Encinitas, California

The applicant requests a permit amendment to take (harass by survey, capture, handle, release, and collect adult vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-050122

Applicant: California Department of Fish and Wildlife, Bishop, California

The applicant requests a permit amendment to take (capture, handle, mark, collect biological samples, radio-collar, survey, translocate, hold over-night, and release) the Sierra Nevada bighorn sheep (Ovis canadensis sierrae) in conjunction with survey and research activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Dated: March 10, 2015.
Michael Long,
Acting Regional Director, Pacific Southwest Region, Sacramento, California.

[FR Doc. 2015-06230 Filed 3-17-15; 8:45 am]

BILLING CODE 4310-55-P